DEPARTMENT OF COMMERCE

National Oceanic and Atmospheric Administration

50 CFR Part 679

[Docket No. 150818742-6210-02]

RIN 0648-XE523

Fisheries of the Exclusive Economic Zone Off Alaska; Reallocation of Pacific Cod in the Central Regulatory Area of the Gulf of Alaska

AGENCY: National Marine Fisheries Service (NMFS), National Oceanic and Atmospheric Administration (NOAA), Commerce.

ACTION: Temporary rule; reallocation.

SUMMARY: NMFS is reallocating the projected unused amount of Pacific cod from catcher vessels less than 50 ft. length overall (LOA) using hook-and line gear and catcher vessels greater than or equal to 50 ft. LOA using hook-and-line gear to vessels using pot gear and vessels using jig gear in the Central Regulatory Area of the Gulf of Alaska (GOA). This action is necessary to allow the A season apportionment of the 2016 total allowable catch of Pacific cod to be harvested.

DATES: Effective March 21, 2016 through 1200 hours, Alaska local time (A.l.t.), June 10, 2016.

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The A season allowance of the 2016 Pacific cod total allowable catch (TAC) apportioned to catcher vessels less than 50 ft. LOA using hook-and-line gear in the Central Regulatory Area of the GOA is 3,411 metric tons (mt), as established by the final 2016 and 2017 harvest specifications for groundfish of the GOA (81 FR 14740, March 18, 2016).

The A season allowance of the 2016 Pacific cod total allowable catch (TAC) apportioned to catcher vessels greater than or equal to 50 ft. LOA using hook-and-line gear in the Central Regulatory Area of the GOA is 2,054 mt, as established by the final 2016 and 2017 harvest specifications for groundfish of the GOA (81 FR 14740, March 18, 2016).

The Administrator, Alaska Region, NMFS, (Regional Administrator) has determined that catcher vessels using hook-and-line gear will not be able to harvest 1,700 mt of the A season apportionment of the 2016 Pacific cod TAC allocated to those vessels under § 679.20(a)(12)(i)(B)(1) and (2). In accordance with § 679.20(a)(12)(ii)(B), the Regional Administrator has also determined that vessels using pot gear and vessels using jig gear in the Central Regulatory Area of the GOA currently have the capacity to harvest this excess allocation and reallocates 1,500 mt to vessels using pot gear and 200 mt to vessels using jig gear. Therefore, NMFS apportions 1,000 mt of Pacific cod from the A season apportionments for catcher vessels less than 50 ft. LOA using hook-and-line gear and 500 mt of Pacific cod from catcher vessels greater than or equal to 50 ft. LOA using hook-and-line gear to vessels using pot gear in the Central Regulatory Area of the GOA. NMFS also apportions 200 mt of Pacific cod from the A season apportionment for catcher vessels greater than or equal to 50 ft. LOA using hook-and-line gear to vessels using jig gear in the Central Regulatory Area of the GOA

The harvest specifications for Pacific cod included in the final 2016 and 2017 harvest specifications for groundfish of the GOA (81 FR 14740, March 18, 2016) are revised as follows: 2,411 mt to the A season apportionment and 4,347 mt to the annual amount for catcher vessels less than 50 ft. LOA using hook-and-line gear, 1,354 mt to the A season apportionment and 1,756 mt to the annual amount for catcher vessels equal to or greater than 50 ft. LOA using hook-and-line gear, 8,028 mt to the A season apportionment and 11,680 mt to the annual amount to vessels using pot gear, and 422 mt to the A season apportionment and 570 mt to the annual amount to vessels using jig gear.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Pacific cod specified from catcher vessels using hook-and-line gear to vessels using pot or jig gear. Since the fishery is currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of March 18, 2016.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: March 21, 2016.
Emily H. Menashes,
Acting Director, Office of Sustainable Fisheries, National Marine Fisheries Service.

[FR Doc. 2016-06686 Filed 3-21-16; 4:15 pm]

BILLING CODE 3510-22-P